DEPARTMENT OF ENERGY

Federal Energy Regulatory Commission

[Docket No. RP08-84-000]

Southern Star Central Gas Pipeline, Inc.; Notice of Technical Conference

January 23, 2008.

Take notice that the Commission will convene a technical conference in the above-referenced proceeding on Friday, February 8, 2008, at 10 a.m. (EDT), in a room to be designated at the offices of the Federal Energy Regulatory Commission, 888 First Street, NE., Washington, DC 20426.

The Commission's December 28, 2007 Order ¹ directed that a technical conference be held to address the issues raised by Southern Star Central Gas Pipeline, Inc.'s (Southern Star) November 30, 2007, tariff filings to reflect annual adjustments to its fuel and loss reimbursement percentages (FLRPs). Commission Staff and parties will have the opportunity to discuss all of the issues raised by Southern Star's filing including, but not limited to, technical, engineering and operational issues, and issues related to the interpretation of tariff provisions governing Southern Star's FLRPs.

¹ Southern Star Central Gas Pipeline, Inc., 121 FERC ¶ 61,306 (2007).

FERC conferences are accessible under section 508 of the Rehabilitation Act of 1973. For accessibility accommodations please send an e-mail to accessibility@ferc.gov or call toll free (866) 208-3372 (voice) or 202-502-8659 (TTY), or send a fax to 202-208-2106 with the required accommodations.

All interested persons are permitted to attend. For further information please contact Timothy Duggan at (202) 502-8326 or e-mail Timothy.Duggan@ferc.gov or Deborah Frazier at (202) 502-6089 or e-mail Deborah.Frazier@ferc.gov.

Kimberly D. Bose,
Secretary.

[FR Doc. E8-1585 Filed 1-29-08; 8:45 am]

BILLING CODE 6717-01-P